DEPARTMENT OF HEALTH AND HUMAN SERVICES

Centers for Disease Control and Prevention

[60Day-12-12EG]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 or send comments to Kimberly Lane, CDC Reports Clearance Officer, 1600 Clifton Road, MS D-74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Use of Smartphones to Collect Information about Health Behaviors: Feasibility Study—New—National Center for Chronic Disease Prevention and Health Promotion (NCCDPHP), Centers for Disease Control and Prevention (CDC).

Background and Brief Description

Despite the high level of public knowledge about the adverse effects of smoking, tobacco use remains the leading preventable cause of disease and death in the U.S., resulting in approximately 443,000 deaths annually. During 2005-2010, the overall proportion of U.S. adults who were current smokers declined from 20.9% to 19.3%. Despite this decrease, smoking rates are still well above Healthy People 2010 targets for reducing adult smoking prevalence to 12%, and the decline in prevalence was not uniform across the population.

One of the highest priorities emanating from the American Recovery and Reinvestment Act of 2009 is tobacco control and cessation programs. In addition, the Family Smoking Prevention and Tobacco Control Act gave the Food and Drug Administration new authority to regulate tobacco products, and the Children's Health Insurance Program Reauthorization Act of 2009 included increases in Federal excise taxes on tobacco products. These developments reinforce the importance of timely collection of data related to tobacco usage.

The evolution of new communications technologies that are completely mobile provides a unique opportunity for innovation in public health. Text messaging and smartphone web access are immediate, accessible, and anonymous, a combination of features that could make smartphones ideal for the ongoing research, surveillance, and evaluation of risk behaviors and health conditions, as well as targeted dissemination of information.

CDC proposes to conduct a feasibility study to identify and evaluate the process of conducting surveys by text message and smartphone, the outcomes of the surveys, and the value of the surveys. Before initiating the feasibility study, CDC will conduct a brief pre-test of information collection forms and procedures. The universe for this study is English-speaking U.S. residents aged 18-65. The sample frame will consist of a national random digit dial sample of telephone numbers from a frame of known cell phone exchanges. Respondents will be recruited from this sample frame by calling cell phones numbers and asking respondents to complete an initial CATI survey consisting of a short series of simple demographic questions, general health questions, and questions about tobacco and alcohol use. At the conclusion of this brief survey, all respondents who have smartphones and a subset of respondents who do not have smartphones will be asked to participate in the follow-up portion of the feasibility study consisting of a first follow-up survey and, a week later, a second follow-up survey. Smartphone respondents who agree will receive invitations to participate by text message, which will include a link to the survey. Non-smartphone respondents who agree will receive a text message inviting them to participate; respondents opting in will be texted survey questions one at a time.

This study will evaluate: (1) Response bias of a smartphone health survey by comparing data collected via CATI to data collected via smartphones/text messages, and data collected via smartphones to data collected via text messages, (2) relative cost-effectiveness of data collected via CATI to data collected via smartphones/text messages; (3) coverage bias associated with restricting the sample to smartphone users; and (4) the utility of smartphones for completing frequent, short interviews (i.e. diary studies to track activities or events).

OMB approval is requested for one year. Participation is voluntary and respondents can choose not to participate at any time. There are no costs to respondents other than their time.

Estimated Annualized Burden Hours
Type of respondents | Form name | Number of respondents | Number of responses per respondent | Average burden per response (in hr) | Total burden (in hr)
Smartphone and non-smartphone users aged 18-65 | Pre-test of CATI Screener/Initial CATI Survey | 20 | 1 | 8/60 | 3
| CATI Screener | 1,990 | 1 | 1/60 | 33
| Initial CATI Survey | 995 | 1 | 7/60 | 116
Smartphone Users aged 18-65 | First Web Survey Follow-up for Smartphone Users | 697 | 1 | 3/60 | 35
| Second Web Survey Follow-up for Smartphone Users | 592 | 1 | 3/60 | 30
Non-smartphone Users aged 18-65 | First Text Message Survey Follow-up for non-Smartphone Users | 200 | 1 | 3/60 | 10
| Second Text Message Survey Follow-up for non-Smartphone Users | 170 | 1 | 3/60 | 9
Total |  |  |  |  | 236

Kimberly Lane,
Reports Clearance Officer, Centers for Disease Control and Prevention.

[FR Doc. 2012-4549 Filed 2-24-12; 8:45 am]

BILLING CODE 4163-18-P